DEPARTMENT OF THE INTERIOR

Bureau of Land Management

[18X.LLAK910000.L13100000.DB0000.LXSINSSI0000]

Notice of Public Meeting, North Slope Science Initiative—Science Technical Advisory Panel, Alaska

AGENCY: Bureau of Land Management Alaska, Interior.

ACTION: Notice of public meeting.

SUMMARY: The U.S. Department of the Interior, Bureau of Land Management North Slope Science Initiative (NSSI)—Science Technical Advisory Panel (STAP) will meet as indicated below in accordance with the Federal Land Policy and Management Act of 1976, the Energy Policy Act of 2005, and the Federal Advisory Committee Act of 1972.

DATES: The STAP will meet October 23 and 24, 2018, from 8:30 a.m. to 5 p.m. each day. There will be a public comment period from 3:30 p.m. until 4 p.m. on Tuesday, October 23.

ADDRESSES: The meeting will be on the first floor of the Atwood Conference Center in the Ted Stevens Room, #102, at 550 West Seventh Avenue, Anchorage, Alaska.

FOR FURTHER INFORMATION CONTACT: Mr. Scott Guyer, Deputy Director (Acting), North Slope Science Initiative, Bureau of Land Management, 222 West Seventh Avenue, Mailstop 13, Anchorage, Alaska 99513, 907-271-3284, or sguyer@blm.gov. People who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: Authorized by Public Law 109-58, Sec. 348 (42 U.S.C. 15906) of the Energy Policy Act of 2005, the STAP provides advice and recommendations to the NSSI Oversight Group about priority information requirements for management decisions across the North Slope of Alaska. These priority information requirements and recommendations may include inventory, monitoring, and research activities that contribute to informed resource management decisions. The Secretary of the Interior appoints panel members who represent various scientific and technical disciplines.

This meeting will include background presentations to inform panel work; updates from panel working groups on topics including aviation impacts on subsistence resources, habitat monitoring, focal species monitoring, and indigenous knowledge; and development of a communications plan to facilitate NSSI actions for ensuring effective coordination of monitoring and research activities.

There will be a public comment period from 3:30 p.m. until 4:00 p.m. on Tuesday, October 23. Depending on the number of people wishing to comment within the scheduled time available, there may be limited time for individuals to speak. Individuals who plan to attend and need special assistance, such as sign language interpretation, transportation, or other reasonable accommodations, should contact the NSSI's Deputy Director. The public may present written comments to the STAP through the NSSI's Deputy Director. Before including your address, phone number, email address, or other personal identifying information in your comment, you should be aware that your entire comment—including your personal identifying information—may be made publicly available at any time. While you can ask us in your comment to withhold your personal identifying information from public review, we cannot guarantee that we will be able to do so.

Authority: 42 U.S.C. 15906; 43 CFR 1784.4-2.

Karen E. Mouritsen,
Acting State Director, Alaska.

[FR Doc. 2018-20938 Filed 9-25-18; 8:45 am]

BILLING CODE 4310-JA-P